FEDERAL COMMUNICATIONS COMMISSION

47 CFR Part 64

[CG Docket No. 02-386; FCC 05-29]

Rules and Regulations Implementing Minimum Customer Account Record Exchange Obligations on All Local and Interexchange Carriers; Correction

AGENCY: Federal Communications Commission.

ACTION: Final rule; correction.

SUMMARY: On June 2, 2005 (70 FR 32258), the Commission published a final rule in the Federal Register, which adopted new rules to facilitate the exchange of customer account information between Local Exchange Carriers (LECs) and Interexchange Carriers (IXCs) and to establish carriers' responsibilities with respect to such exchanges. This document corrects the instances in the Federal Register which an IXC-initiated PIC Order is referred to as a Report and Order.

DATES: The rules in this document contain information collection requirements that have not been approved by the Office of Management and Budget (OMB). The Commission will publish a document in the Federal Register announcing the effective date for these rules. Written comments by the public on the new and modified information collections are due October 14, 2005.

FOR FURTHER INFORMATION CONTACT: Lisa Boehley, Consumer & Governmental Affairs Bureau at (202) 418-2512 (voice), or e-mail Lisa.Boehley@fcc.gov.

SUPPLEMENTARY INFORMATION: The Federal Communications Commission published a document adopting new rules to facilitate the exchange of customer account information between Local Exchange Carriers (LECs) and Interexchange Carriers (IXCs). In the Federal Register document 05-10974 published on June 2, 2005 (70 FR 32258) make the following corrections:

1. On page 32259, under the Supplementary Information in the first column on line 30, PIC Report and Order is corrected to read as PIC Order and wherever it appears in the Supplementary Information.

2. In § 64.4002, the introductory text, paragraphs (a) introductory text, (b) introductory text, (b) (6), (c) introductory text; and (d) introductory text are corrected to read as follows:

§ 64.4002 Notification obligations of LECs.

To the extent that the information is reasonably available to a LEC, the LEC shall provide to an IXC the customer account information described in this section consistent with § 64.4004. Nothing in this section shall prevent a LEC from providing additional customer account information to an IXC to the extent that such additional information is necessary for billing purposes or to properly execute a customer's PIC Order.

(a) Customer-submitted PIC Order. Upon receiving and processing a PIC selection submitted by a customer and placing the customer on the network of the customer's preferred interexchange carrier at the LEC's local switch, the LEC must notify the IXC of this event. The notification provided by the LEC to the IXC must contain all of the customer account information necessary to allow for proper billing of the customer by the IXC including but not limited to:

* * * * *

(b) Confirmation of IXC-submitted PIC Order. When a LEC has placed a customer on an IXC's network at the local switch in response to an IXC-submitted PIC Order, the LEC must send a confirmation to the submitting IXC. The confirmation provided by the LEC to the IXC must include:

* * * * *

(6) The carrier identification code of the submitting LEC. If the PIC Order at issue originally was submitted by an underlying IXC on behalf of a toll reseller, the confirmation provided by the LEC to the IXC must indicate, to the extent that this information is known, a statement indicating that the customer's PIC is a toll reseller.

(c) Rejection of IXC-submitted PIC Order. When a LEC rejects or otherwise does not act upon a PIC Report and Order submitted to it by an IXC, the LEC must notify the IXC and provide the reason(s) why the PIC Order could not be processed. The notification provided by the LEC to the IXC must state that it has rejected the IXC-submitted PIC Order and specify the reason(s) for the rejection (e.g., due to a lack of information, incorrect information, or a PIC freeze on the customer's account). The notification must contain the identical data elements that were provided to the LEC in the original IXC-submitted PIC Order (i.e., mirror image of the original Order), unless otherwise specified by this subsection. If a LEC rejects an IXC-submitted PIC Order for a multi-line account (i.e., the customer has selected the IXC as his PIC for two or more lines or terminals associated with his billing telephone number), the notification provided by the LEC rejecting that Order must explain the effect of the rejection with respect to each line (working telephone number or terminal) associated with the customer's billing telephone number. A LEC is not required to generate a line-specific or terminal-specific response, however, and may communicate the rejection at the billing telephone level, when the LEC is unable to process an entire Order, including all working telephone numbers and terminals associated with a particular billing telephone number. In addition, the notification must indicate the jurisdictional scope of the PIC Order rejection (i.e., intraLATA and/or interLATA and/or international). If a LEC rejects a PIC Order because:

* * * * *

(d) Customer contacts LEC or new IXC to cancel PIC. When a LEC has removed at its local switch a presubscribed customer from an IXC's network, either in response to a customer Order or upon receipt of a properly verified PIC Order submitted by another IXC, the LEC must notify the customer's former IXC of this event. The LEC must provide to the IXC the customer account information that is necessary to allow for proper final billing of the customer by the IXC including but not limited to:

* * * * *

3. In § 64.4003, the introductory text, (a) introductory text, (a) (2), (a) (3), (b) introductory text, (b) (2) and (b) (3) are corrected to read as follows:

§ 64.4003 Notification obligations of IXCs.

To the extent that the information is reasonably available to an IXC, the IXC shall provide to a LEC the customer account information described in this section consistent with § 64.4004. Nothing in this section shall prevent an IXC from providing additional customer account information to a LEC to the extent that such additional information is necessary for billing purposes or to properly execute a customer's PIC Order.

(a) IXC-submitted PIC Order. When a customer contacts an IXC to establish interexchange service on a presubscribed basis, the IXC selected must submit the customer's properly verified PIC Order (see 47 CFR 64.1120(a)) to the customer's LEC, instructing the LEC to install or change the PIC for the customer's line(s) to that IXC. The notification provided by the IXC to the LEC must contain all of the information necessary to properly execute the Order including but not limited to:

* * * * *

(2) The date of the IXC-submitted PIC Order;

(3) The jurisdictional scope of the PIC Order (i.e, intraLATA and/or interLATA and/or international); and

* * * * *

(b) Customer contacts IXC to cancel PIC and to select no-PIC status. When an end user customer contacts an IXC to discontinue interexchange service on a presubscribed basis, the IXC must confirm that it is the customer's desire to have no PIC and, if that is the case, the IXC must notify the customer's LEC. The IXC also is encouraged to instruct the customer to notify his LEC. An IXC may satisfy this requirement by establishing a three-way call with the customer and the customer's LEC to confirm that it is the customer's desire to have no PIC and, where appropriate, to provide the customer the opportunity to withdraw any PIC freeze that may be in place. The notification provided by the IXC to the LEC must contain the customer account information necessary to properly execute the cancellation Order including but not limited to:

* * * * *

(2) The date of the IXC-submitted PIC removal Order;

(3) The jurisdictional scope of the PIC removal Order (i.e., intraLATA and/or interLATA and/or international); and

* * * * *

Federal Communications Commission.
Marlene H. Dortch,
Secretary.

[FR Doc. 05-18255 Filed 9-13-05; 8:45 am]

BILLING CODE 6712-01-P